DEPARTMENT OF TRANSPORTATION

Federal Aviation Administration

14 CFR Part 39

[Docket No. FAA-2004-19443; Directorate Identifier 2004-CE-32-AD; Amendment 39-13942; AD 2005-01-17]

RIN 2120-AA64

Airworthiness Directives; EXTRA Flugzeugbau GmbH Model EA-300 and EA-300/S Airplanes

AGENCY: Federal Aviation Administration (FAA), DOT.

ACTION: Final rule.

SUMMARY: The FAA adopts a new airworthiness directive (AD) to supersede AD 98-03-14, which applies to certain EXTRA Flugzeugbau GmbH (EXTRA) Model EA-300 and EA-300/S airplanes. AD 98-03-14 currently requires you to inspect the upper longeron cutout-bridge for cracks, to repair any cracks found, and to modify this area. This AD retains the actions of AD 98-03-14 and incorporates new service information. For owner/operators of the affected airplanes that were able to do the modification required in AD 98-03-14, no further action is required. This AD results from mandatory continuing airworthiness information (MCAI) issued by the airworthiness authority for Germany. We are issuing this AD to detect and correct cracks in the upper longeron cutout-bridge, which could cause the upper longeron cutout-bridge to fail resulting in structural damage to the fuselage. This condition could lead to loss of control of the airplane.

DATES: This AD becomes effective on February 28, 2005.

On March 16, 1998 (63 FR 5881, February 5, 1998), the Director of the Federal Register approved the incorporation by reference of EXTRA Flugzeugbau GmbH Service Bulletin EA-300 & EA-300/S Doc: SB-300-3-93, Issue: A, Date: January 12, 1994.

As of February 28, 2005, the Director of the Federal Register approved the incorporation by reference of EXTRA Flugzeugbau GmbH Service Bulletin EA-300 & EA-300/S Doc: SB-300-3-93, Issue: B, Date: June 10, 1998.

ADDRESSES: To get the service information identified in this AD, contact Extra Flugzeugbau GmbH, Flugplatz Dinslaken, D-46569 Hünxe, Germany. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19443.

FOR FURTHER INFORMATION CONTACT: Karl Schletzbaum, Aerospace Engineer, Small Airplane Directorate, 901 Locust, Room 301, Kansas City, MO 64106; telephone: (816) 329-4146; facsimile: (816) 329-4090.

SUPPLEMENTARY INFORMATION:

Discussion

What events have caused this AD? The Luftfahart-Bundesamt (LBA), which is the airworthiness authority for Germany, notified us that life cycle testing of the upper longeron cutout-bridge revealed potential cracks. This condition caused us to issue AD 98-03-14, Amendment 39-10307 (63 FR 5881, February 5, 1998). AD 98-03-14 currently requires you to do the following for certain EXTRA Model EA-300 and EA-300/S airplanes:

—Inspect the upper longeron cutout-bridge for cracks;

—Repair any cracks you find; and

—Modify this area.

You were required to do these actions following EXTRA Flugzeugbau GmbH Service Bulletin EA-300 & EA-300/S, Doc: SB-300-3-93, Issue: A, Date: January 12, 1994.

What has happened since AD 98-03-14 to initiate this action? LBA notified FAA of the need to change AD 98-03-14. The LBA reports that not all affected airplanes could have the required modification done following EXTRA Service Bulletin EA-300 & EA-300/S, Doc: SB-300-3-93, Issue: A, Date: January 12, 1994.

Installing the new steel sleeves may cause distortion to the upper longeron bridge cutout and the fuselage. The distortion may cause misalignment of the steel sleeves fore and aft of the cutouts.

This caused EXTRA to issue a new service bulletin. The new service bulletin includes additional procedures for modifying the upper longeron cutout-bridge. If you modify the upper longeron bridge-cutout following Procedure II in the new service bulletin, the new bridges must be replaced every 1,000 hours time-in-service (TIS) (as specified in the new service information.)

What is the potential impact if FAA took no action? If not detected and corrected, cracks in the upper longeron cutout-bridge could cause the upper longeron cutout-bridge to fail, which could result in structural damage to the fuselage. This failure could lead to loss of control of the airplane.

Has FAA taken any action to this point? We issued a proposal to amend part 39 of the Federal Aviation Regulations (14 CFR part 39) to include an AD that would apply to certain EXTRA Model EA-300 and EA-300/S airplanes. This proposal was published in the Federal Register as a notice of proposed rulemaking (NPRM) on November 12, 2004 (69 FR 65388). The NPRM proposed to supersede AD 98-03-14 with a new AD that would retain the actions required in AD 98-03-14 and incorporate new service information.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 54 airplanes in the U.S. registry.

What is the cost impact of this AD on owners/operators of the affected airplanes? We estimate the following costs to accomplish the inspection:

Labor cost | Parts cost | Total cost per airplane | Total cost on U.S. operators
3 workhours × $65 per hour = $195 | Not applicable | $195 | $195 × 54 = $10,530

We estimate the following costs to do any necessary repairs that will be required based on the results of the inspection. We have no way of determining the number of airplanes that may need this repair:

Labor cost | Parts cost | Total cost per airplane
10 workhours × $65 per hour = $650 | $200 | $650 + $200 = $850

What is the difference between the cost impact of this AD and the cost impact of AD 98-03-14? The difference between the cost impact of AD 98-03-14 and this AD is the replacement of the new bridges every 1,000 hours TIS if the upper longeron bridge-cutout is modified following Procedure II of the new service bulletin.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19443; Directorate Identifier 2004-CE-32-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-03-14, Amendment 39-10307 (63 FR 5881, February 5, 1998), and by adding a new AD to read as follows:

2005-01-17 EXTRA Flugzeugbau GmbH: Amendment 39-13942; Docket No. FAA-2004-19443; Directorate Identifier 2004-CE-32-AD; Supersedes AD 98-03-14; Amendment 39-10307.

When Does This AD Become Effective?

(a) This AD becomes effective on February 28, 2005.

What Other ADs Are Affected by This Action?

(b) This AD supersedes AD 98-03-14, Amendment 39-10307.

What Airplanes Are Affected by This AD?

(c) This AD affects the following airplane models and serial numbers that:

(1) Are certificated in any category; and

(2) Have not had the left-hand (LH) and right-hand (RH) upper longeron cutout-bridge inspected and modified following EXTRA Flugzeugbau GmbH Service Bulletin EA-300 & EA-300/S Doc: SB-300-3-93, Issue: A, Date: January 12, 1994.

Model | Serial Nos.
EA-300 | VI and 01 through 50.
EA-300/S | 01 through 17.

What Is the Unsafe Condition Presented in This AD?

(d) This AD is the result of mandatory continuing airworthiness information (MCAI) issued by the airworthiness authority for Germany. The actions specified in this AD are intended to detect and correct cracks in the upper longeron cutout-bridge, which could cause the upper longeron cutout-bridge to fail resulting in structural damage to the fuselage. This condition could lead to loss of control of the airplane.

What Must I Do To Address This Problem?

(e) To address this problem, you must do the following:

Actions | Compliance | Procedures
(1) Inspect the LH and RH upper longeron cutout-bridge, part number (P/N) PC-23102.IX), for cracks | Upon accumulating 1,000 hours time-in-service (TIS) on the upper longeron or within the next 100 hours TIS after March 16, 1998 (the effective date of AD 98-03-14), whichever occurs later, unless already done | Follow EXTRA Flugzeugbau GmbH Service Bulletin EA-300 & EA-300/S Doc: SB-300-3-93, Issue: A, Date: January 12, 1994; or EXTRA Flugzeugbau GmbH Service Bulletin EA-300 & EA-300/S Doc: SB-300-3-93, Issue: B, Date: June 10, 1998.
(2) If you find any cracks in the upper longeron cutout-bridge during the inspection required in paragraph (e)(1) of this AD, do the following: (i) repair any cracks; and (ii) modify the upper longeron cutout-bridge. | Before further flight after the inspection required in paragraph (e)(1) of this AD, unless already done | Follow EXTRA Flugzeugbau GmbH Service Bulletin EA-300 & EA-300/S Doc: SB-300-3-93, Issue: A, Date: January 12, 1994; or EXTRA Flugzeugbau GmbH Service Bulletin EA-300 & EA-300/S Doc: SB-300-3-93, Issue: B, Date: June 10, 1998.
(3) If you do not find any cracks in the upper longeron cutout-bridge during the inspection required in paragraph (e)(1) of this AD, you must still modify the upper longeron cutout-bridge | Before further flight after the inspection required in paragraph (e)(1) of this AD, unless already done | Follow EXTRA Flugzeugbau GmbH Service Bulletin EA-300 & EA-300300/S Doc: SB300-3-93, Issue: A, Date: January 12, 1994; or EXTRA Flugzeugbau GmbH Service Bulletin EA-300 & EA-300/S Doc: SB-300-3-93, Issue: B, Date: June 10, 1998.
(4) If you modified the upper longeron cutout-bridge following EXTRA Flugzeugbau GmbH Service Bulletin EA-300 & EA-300/S Doc: SB-300-3-93, Issue: A, Date: January 12, 1994, or EXTRA Flugzeugbau GmbH Service Bulletin EA-300 & EA-300/S Doc: SB-300-3-93, Issue: B, Date: June 10, 1998, Procedure I, you do not need to do any further actions | As of February 28, 2005 (the effective date of this AD) | As stated in EXTRA Flugzeugbau GmbH Service Bulletin EA-300 & EA-300/S Doc: SB-300-3-93, Issue: A, Date: January 12, 1994, or EXTRA Flugzeugbau GmbH Service Bulletin EA-300 & EA-300/S Doc: SB-300-3-93, Issue: B, Date: June 10, 1998.
(5) If you modified the upper longeron cutout-bridge following Procedure II of EXTRA Flugzeugbau GmbH Service Bulletin EA-300 & EA-300/S Doc: SB-300-3-93, Issue: B, Date: June 10, 1998, you must replace the new internal bridges every 1,000 hours TIS | As of February 28, 2005 (the effective date of this AD) | As stated in EXTRA Flugzeugbau GmbH Service Bulletin EA-300 & EA-300/S Doc: SB-300-3-93, Issue: B, Date: June 10, 1998.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, 901 Locust, Room 301, Kansas City, MO 64106; telephone: (816) 329-4146; facsimile: (816) 329-4090.

Is There Other Information That Relates to This Subject?

(g) German AD Number D-1994-043R1, dated May 17, 2004, also addresses the subject of this AD.

Does This AD Incorporate Any Material by Reference?

(h) You must do the actions required by this AD following the instructions in EXTRA Flugzeugbau GmbH Service Bulletin EA-300 & EA-300/S Doc: SB-300-3-93, Issue: A, Date: January 12, 1994; or EXTRA Flugzeugbau GmbH Service Bulletin EA-300 & EA-300/S Doc: SB-300-3-93, Issue: B, Date: June 10, 1998.

(1) On March 16, 1998 (63 FR 5881, February 5, 1998) and in accordance with 5 U.S.C. 552(a) and 1 CFR part 51, the Director of the Federal Register approved the incorporation by reference of EXTRA Flugzeugbau GmbH Service Bulletin EA-300 & EA-300/S Doc: SB-300-3-93, Issue: A, Date: January 12, 1994.

(2) As of February 28, 2005, and in accordance with 5 U.S.C. 552(a) and 1 CFR part 51, the Director of the Federal Register approved the incorporation by reference of EXTRA Flugzeugbau GmbH Service Bulletin EA-300 & EA-300/S Doc: SB-300-3-93, Issue: B, Date: June 10, 1998.

(3) To get a copy of this service information, contact EXTRA Flugzeubau GmbH, Flugplatz Dinslaken, D-46569 Hünxe, Germany. To review copies of this service information, go to the National Archives and Records Administration (NARA). For information on the availability of this material at NARA, go to: http://www.archives.gov/federal_ register/code_of_ federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19443.

Issued in Kansas City, Missouri, on January 5, 2005.
William J. Timberlake,
Acting Manager, Small Airplane Directorate, Aircraft Certification Service.

[FR Doc. 05-607 Filed 1-18-05; 8:45 am]

BILLING CODE 4910-13-P